DEPARTMENT OF TRANSPORTATION

Federal Highway Administration

[Docket No. FHWA-2026-0001]

Agency Information Collection Activities: Request for Comments for a New Information Collection

AGENCY: Federal Highway Administration (FHWA), DOT.

ACTION: Notice and request for comments.

SUMMARY: The FHWA invites public comments about our intention to request the Office of Management and Budget's (OMB) approval for three new information collections, which are summarized below under SUPPLEMENTARY INFORMATION. We are required to publish this notice in the Federal Register by the Paperwork Reduction Act of 1995.

DATES: Please submit comments by March 17, 2026.

ADDRESSES: You may submit comments identified by DOT Docket ID Number 0001 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Melissa Maiefski, melissa.maiefski@dot.gov,(402) 326-7960, Office of Competitive Grants and Workforce Programs, Federal Highway Administration, Department of Transportation, 1200 New Jersey Avenue SE, Washington, DC 20590. Office hours are from 8 a.m. to 5 p.m., Monday through Friday, except Federal holidays.

SUPPLEMENTARY INFORMATION:

Title: Accelerated Implementation and Deployment of Advanced Digital Construction Management Systems, also known as Advanced Digital Construction Management Systems (ADCMS).

Background: The Federal Highway Administration (FHWA) administers the Advanced Digital Construction Management Systems (ADCMS) program. It was established by Congress in Section 5513 of the Infrastructure Investment and Jobs Act (IIJA) and is codified in Federal statute at 23 U.S.C. 503(c)(5).

The purpose of the ADCMS program is to promote, implement, deploy, demonstrate, showcase, support, and document the application of advanced digital construction management systems and practices. The program's goals include maximizing interoperability with other systems, boosting productivity, managing complexity, reducing project delays and cost overruns, and enhancing worker safety and environmental benefits through more efficient projects.

The program provides competitive grants to eligible entities, including State Departments of Transportation, applying alone or in partnership with Local Agencies, Tribes or Private Industry. The FHWA announced the availability of up to $34 million for fiscal year 2026 grants to support these workforce and technology development efforts.

Respondents: The NOFO announcing up to $34 million of Fiscal Year (FY) 2026, funding for ADCMS competitive grants will be available for local and State transportation agencies, which may partner with institutions of higher education and businesses on grants.gov. FHWA is expecting roughly 35 applicants to apply for ADCMS grant funding.

Frequency: NOFOs and grant solicitations may be published annually by FHWA but, are subject to the availability of funds in appropriations or, any legislation signed into law authorizing funds.

Estimated Average Burden per Response: 160 hours per respondent per applicant.

Estimated Total Annual Burden Hours: It is expected that the respondents will complete approximately 35 applications for the program, for an estimated total of 5600 annual burden hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: January 13, 2026.
Jazmyne Lewis,
Information Collection Officer.

[FR Doc. 2026-00788 Filed 1-15-26; 8:45 am]

BILLING CODE 4910-22-P